DEPARTMENT OF AGRICULTURE

Food and Nutrition Service

7 CFR Part 246

RIN 0584-AD73

[FNS-2007-0009]

Special Supplemental Nutrition Program for Women, Infants and Children (WIC): Implementation of Nondiscretionary WIC Certification and General Administrative Provisions

AGENCY: Food and Nutrition Service, USDA.

ACTION: Affirmation of interim rule as final rule.

SUMMARY: This is an affirmation by the Department of a final rule, without change, of an interim rule that amended the regulations for the Special Supplemental Nutrition Program for Women, Infants and Children (WIC) by implementing most of the nondiscretionary provisions of the Child Nutrition and WIC Reauthorization Act of 2004 that address participant certification and general program administration in the WIC Program. The rule implements the exclusions from income eligibility determinations set forth in the National Defense Authorization Act for Fiscal Year (FY) 2006 and in the National Flood Insurance Act of 1968, as amended, and clarifies an inconsistency related to fair hearings and notices of adverse actions that was inadvertently omitted in the publication of the Final WIC Miscellaneous Rule. Finally, this rulemaking includes technical amendments to correct the address and telephone numbers to which complaints alleging discrimination in the WIC Program should be directed, and to correct the address of the Western Regional Office of the Food and Nutrition Service (FNS). The interim rule was necessary to implement the non-discretionary provisions of this law.

DATES: Effective on July 7, 2009, the Department is adopting as a final rule the interim rule published at 73 FR 11305 on March 3, 2008.

FOR FURTHER INFORMATION CONTACT: Debra R. Whitford, Chief, Policy and Program Development Branch, Supplemental Food Programs Division, Food and Nutrition Service, USDA, 3101 Park Center Drive, Room 528, Alexandria, VA 22302, (703) 305-2746, or Debbie.Whitford@fns.usda.gov.

SUPPLEMENTARY INFORMATION:

Background

On, March 3, 2008, the Department published an interim rule implementing most of the nondiscretionary provisions of the Child Nutrition and WIC Reauthorization Act of 2004, in addition to provisions from the National Defense and Authorization Act of 2004 and the National Flood Insurance Act of 1968. The revisions address participant certification and general program administration in the WIC Program. While most of the provisions in the interim rule were implemented exactly as written in the law, the Department believed the provision related to State-paid EBT costs might be somewhat confusing to State agencies. Comments were invited on that provision in an effort to explain its implementation more fully.

The comment period ended on June 2, 2008. Only one comment letter was submitted during the comment period. The regulatory provisions addressed in that letter pertained only to the nondiscretionary provisions set forth in the interim rule. Because the nondiscretionary provisions have been implemented as set forth in the law, they are retained as written in this final rule.

For reasons given in the interim rule, the Department is adopting the interim rule as a final rule without change.

This action also affirms information contained in the interim rule concerning Executive Order 12866, the Regulatory Flexibility Act, Executive Order 12988, and the Paperwork Reduction Act. Further, for this action, the Office of Management and Budget has waived its review under Executive Order 12866.

List of Subjects in 7 CFR Part 246

Food assistance programs, Food donations, Grant programs—Social programs, Indians, Infants and children, Maternal and child health, Nondiscrimination, Nutrition education, Public assistance programs, WIC, Women.

PART 246—SPECIAL SUPPLEMENTAL NUTRITION PROGRAM FOR WOMEN, INFANTS AND CHILDREN

Accordingly, the Department is adopting as a final rule, without change, the interim rule that amended 7 CFR part 246 and was published at 73 FR 11305 on March 3, 2008.

Dated: June 29, 2009.
Julia Paradis,
Administrator, Food and Nutrition Service.

[FR Doc. E9-15968 Filed 7-6-09; 8:45 am]

BILLING CODE 3410-30-P